DEPARTMENT OF LABOR

Employment and Training Administration

[TA-W-64,686 ]

Cessna Aircraft, Formerly Columbia Aircraft; Bend, OR; Notice of Termination of Investigation

Pursuant to Section 221 of the Trade Act of 1974, as amended, an investigation was initiated on December 16, 2008, in response to a petition filed by the State of Oregon on behalf of workers at Cessna Aircraft, formerly Columbia Aircraft, Bend, Oregon.

The petitioner has requested that the petition be withdrawn. Consequently, the investigation has been terminated.

Signed at Washington, DC, this 3rd day of April 2009.
Elliott S. Kushner,
Certifying Officer, Division of Trade Adjustment Assistance.

[FR Doc. E9-10564 Filed 5-6-09; 8:45 am]

BILLING CODE 4510-FN-P